DEPARTMENT OF HEALTH AND HUMAN SERVICES

Administration for Children and Families

Submission for OMB Review; Comment Request

Title: Statewide Automated Child Welfare Information System (SACWIS) Assessment Review Guide (SARG).

OMB No.: 0970-0159.

Description: For HHS to fulfill its obligation to effectively serve the nation's Adoption and Foster Care populations, and to report meaningful and reliable information to Congress about the extent of problems facing these children and the effectiveness of assistance provided to this population, the agency must have access to timely and accurate information about child welfare service populations and child welfare services. Section 476(b)of the Social Security Act requires that States submit statistical reports for child welfare populations, and Section 479 of the Act details State responsibilities to report specific information related to child abuse and neglect. CFR 1355.52 provides funding authority for statewide automated child welfare information systems (SACWIS) that meet Federal requirements for child welfare data collection. If a State chooses to implement a SACWIS, that system serves as the primary data source for Federal reporting. Currently, states use their SACWIS to support their efforts to meet the following Federal reporting requirements related to child welfare: the Adoption and Foster Care Analysis and Reporting System (AFCARS) required by section 479(b)(2) of the Social Security Act; the National Child Abuse and Neglect Data System (NCANDS); Child Abuse Prevention and Treatment Act (CAPTA); and the Chafee Independent Living Program's National Youth in Transition Database (NYTD). These systems also support state efforts to provide the information to conduct the Child and Family Service Reviews. Currently, forty-two States and the District of Columbia have developed, or are developing, a SACWIS with Federal financial participation.

45 CFR 1355.55 provides for continuing review, assessment and inspection of SACWIS. The purpose of this review is to determine whether the system, as described in the approved Advance Planning Document has been adequately completed and conforms to applicable regulations and policies.

To initiate a review, States complete and submit the SACWIS Assessment Review Guide (SARG) and other system documentation when they have completed system development and the system is operational statewide. The SARG template provides a format for State description of system functionality, operation, and outputs such as reports. The additional materials submitted as part of this process, such as system design documentation, are typically readily available to the State as a result of good project management practices.

The information collected in the SACWIS Assessment Review Guide will allow Federal reviewers to determine if the State's SACWIS meets the requirements for title IV-E Federal Financial Participation (FFP) defined at 45 CFR 1355.50, and that systems meet the goals and objectives of the approved Advance Planning Documents (APD) and conforms to the schedule, budget, and other conditions of their approved APDs. Additionally, other States may be able to use the documentation provided as part of their preparation for the review process of their own system development efforts.

Respondents: Title IV-E Agencies.

Annual Burden Estimates
Instrument | Number of respondents | Number of responses per respondent | Average burden hours per response | Total burden hours
SACWIS Assessment Review Guide | 3 | 1 | 250 | 750

Estimated Total Annual Burden Hours: 750.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, E-mail: OIRA_SUBMISSION@OMB.EOP.GOV, Attn: Desk Officer for the Administration for Children and Families.

Robert Sargis,
Reports Clearance Officer.

[FR Doc. 2011-8663 Filed 4-11-11; 8:45 am]

BILLING CODE 4184-01-P